DEPARTMENT OF HEALTH AND HUMAN SERVICES

Office of the National Coordinator for Health Information Technology; American Health Information Community Meeting

ACTION: Announcement of meeting.

SUMMARY: This notice announces the 15th meeting of the American Health Information Community in accordance with the Federal Advisory Committee Act (Pub. L. 92-463, 5 U.S.C., App.) The American Health Information Community will advise the Secretary and recommend specific actions to achieve a common interoperability framework for health information technology (IT).

DATES: July 31, 2007, from 8:30 a.m. to 3 p.m. (EDT)

ADDRESSES: Hubert H. Humphrey building (200 Independence Avenue, SW, Washington, DC 20201), Conference Room 800

FOR FURTHER INFORMATION: visit http://www.hhs.gov/healthit/ahic.html.

SUPPLEMENTARY INFORMATION: The meeting will include a presentation by the Personalized Healthcare Workgroup on Recommendations; an update on activities of the Certification Commission for Health Information Technology; a presentation on use cases and the 2008 AHIC priorities for the national HIT agenda; a report from the AHIC Standing Committee of the Whole on the AHIC Successor; and a report from the Health Information Security and Privacy Collaborative.

A Web cast of the Community meeting will be available on the NIH Web site at: http://www.videocast.nih.gov/.

If you have special needs for the meeting, please contact (202) 690-7151.

Dated: July 2, 2007.
Judith Sparrow,
Director, American Health Information Community, Office of Programs and Coordination, Office of the National Coordinator for Health Information Technology.

[FR Doc. 07-3364 Filed 7-10-07; 8:45 am]

BILLING CODE 4150-24-M